DEPARTMENT OF JUSTICE

[OMB Number: 1121-0148]

Agency Information Collection Activities: Request Reinstatement of a Previously Approved Collection

AGENCY: Office of Justice Programs, Bureau of Justice Assistance, Department of Justice.

ACTION: 60-Day notice.

SUMMARY: The Department of Justice (DOJ), Office of Justice Programs, Bureau of Justice Assistance has submitted the following information collection request for review and clearance in accordance with the Paperwork Reduction Act of 1995.

DATES: The Department of Justice encourages public comment and will accept input until August 11, 2020.

FOR FURTHER INFORMATION CONTACT: If you have additional comments on the estimated public burden, the associated response time, suggestions, a copy of the proposed instrument with instructions, or need additional information please contact M.A. Berry, Project Director at 202-598-2000 or DFB-DPFD@ojp.usdoj.gov, at the Bureau of Justice Assistance, Office of Justice Programs, U.S. Department of Justice, 810 Seventh Street NW, Washington, DC 20531. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information should address one or more of the following four points:

(1) Evaluate whether the proposed collection of information is necessary for the proper performance of the function of the Bureau of Justice Assistance, including whether the information will have practical utility;

(2) Evaluate the accuracy of the agency's estimate of the burden of the proposed collection of information, including the validity of the methodology and assumptions used;

(3) Evaluate whether and if so how the quality, utility, and clarity of the information to be collected can be enhanced; and

(4) Minimize the burden of the collection of information on those who are to respond, including through the use of appropriate automated, electronic, mechanical, or other technological collection techniques or other forms of information technology, e.g., permitting electronic submission of responses.

Overview of This Information Collection

(1) Type of Information Collection: Reinstatement, without change of a previously approved collection.

(2) The Title of the Form/Collection: Denial of Federal Benefits/Defense Procurement and Fraud Debarment Programs (DFB).

(3) The agency form number, if any, and the applicable component of the department sponsoring the collection: The applications process is managed electronically by a web based program which can be accessed at: https://dfb.bja.ojp.gov.

(4) Affected public who will be asked or required to respond, as well as a brief abstract: All United States federal and state district court judges and prosecutors, the U.S. Department of Defense, defense contractors and subcontractors as well as federal agencies that issue federal benefits.

Abstract: The Anti-Drug Abuse Act of 1988, Public Law 100-690, Section 5301 (21 U.S.C. Section 862) provides federal, state, and local courts with a central clearinghouse vehicle to deny certain federal benefits to individuals convicted of any federal or state offense involving the distribution or possession of a controlled substance.

In response to the Anti-Drug Abuse Act of 1988, the President directed the Department of Justice, Office of Justice Programs, to act as an Information Clearinghouse for the federal and state courts. Specifically, DOJ has been charged with collecting all incoming information generated by the courts regarding those individuals to whom benefits were to be denied pursuant to 21 U.S.C. Section 862. The names of the sanctioned individuals are then submitted to the General Service Administration for inclusion in the List of Parties Excluded from Federal Procurement or Non-procurement Programs, better known as the “Debarment List” at SAM.gov. The Defense Procurement Fraud Debarment Clearinghouse is also operated by the Bureau of Justice Assistance. It was established by Section 815, Subsection 10, of the National Defense Authorization Act for fiscal year (FY) 1993 [Public Law 102-484, 10 United States Code, Section 2408 (c)]. This provision requires the U.S. Attorney General to establish a single point of contact for contractors or subcontractors of the United States Department of Defense (DOD) to promptly confirm whether an individual has been convicted of fraud or any other felony arising out of a contract with the Department of Defense. Such individuals may be prohibited from engaging in certain activities including but not limited to receiving or working on any defense contracts, or any first tier subcontracts, for a period of 5 years. This list is also compiled and maintained in the Denial of Federal Benefits database and forwarded by BJA to GSA for inclusion in the Debarment List at SAM.gov.

(5) An estimate of the total number of respondents and the amount of time estimated for an average respondent to respond: As of December, 2019 DOJ has received approximately 19,951 cases for debarment. In the last 3 years (2017 to 2019 inclusive) 1,490 cases were received. This is an average of 497 cases per year. Each application takes approximately 20 minutes to complete, scan and upload. This number includes cases received as a result of marketing and social media outreach directed to Courts which have a high personnel turn-over rate.

(6) An estimate of the total public burden (in hours) associated with the collection: Based upon the average number of submissions over the last 3 years, and the estimated time required to complete each submission, the estimated annual public burden would be 208 hours.

a. 497 cases × 25 minutes = 12,425 minutes/60 = 208 hours.

If additional information is required contact: Melody Braswell, Department Clearance Officer, United States Department of Justice, Justice Management Division, Policy and Planning Staff, Two Constitution Square, 145 N Street NE, 3E.405A, Washington, DC 20530.

Dated: June 8, 2020
Melody Braswell,
Department Clearance Officer for PRA, U.S. Department of Justice.

[FR Doc. 2020-12684 Filed 6-11-20; 8:45 am]

BILLING CODE 4410-14-P